DEPARTMENT OF LABOR

Employment and Training Administration

Proposed Collection: Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration (ETA) is soliciting comments concerning the proposed new collection of information for the proposed revision and extension of the Unemployment Insurance (UI) “Summaries UI Trust Fund Activities” reports.

A copy of the proposed information collection request (ICR) can be obtained by contacting the office listed below in the addressee section of this notice.

DATES: Written comments must be submitted to the office listed in the addressee's section below on or before November 12, 2002.

ADDRESSES: James E. Herbert, Room C4526, 200 Constitution Avenue, NW., Washington, DC 20210, (202) 693-2926 (this is not a toll-free number). E-mail address is jherbert@doleta.gov and the fax number is (202) 693-3229.

SUPPLEMENTARY INFORMATION:

I. Background

Section 303(a)(4) of the Social Security Act (SSA) and Section 3304(a)(3) of the Federal Unemployment Tax Act (FUTA) require that all money received in the unemployment fund of a state be paid immediately to the Secretary of Treasury to the credit of the Unemployment Trust Fund (UTF). This is the “immediate deposit” standard.

Section 303(a)(5) of the SSA and Section 3304(a)(4) of the FUTA require that all money withdrawn from the UTF be used solely for the payment of unemployment compensation, exclusive of the expenses of administration. This is the “limited withdrawal standard”.

Federal law (Section 303(a)(6) of the SSA) gives the Secretary of Labor the authority to require the reporting of information deemed necessary to assure state compliance with the provisions of the SSA.

Under this authority, the Secretary of Labor requires the following reports to monitor state compliance with the immediate deposit and limited withdrawal standards:

ETA 2112: UI Financial Transactions Summary, Unemployment Fund

ETA 8401: Monthly Analysis of Benefit Payment Account

ETA 8405: Monthly Analysis of Clearing Account

ETA 8413: Income—Expense Analysis UC Fund, Benefit Payment Account

ETA 8414: Income—Expense Analysis UC Fund, Clearing Account

ETA 8403: Summary of Financial Transactions—Title IX Funds

These reports are submitted to the Office of Workforce Security (OWS) in the ETA which uses them to:

• Monitor cash flows into and out of the UTF to determine state compliance with the immediate deposit and limited withdrawal standards.

• Assure proper accounting for unemployment funds, an integral part of preparing the Department's consolidated financial statements, required by the Chief Financial Officer Act of 1990. The UTF is the single largest asset and liability on the statements.

• Reconcile the Department's records with the U.S. Treasury records.

• Develop UI research and actuarial reports, especially to monitor the solvency of the UTF.

The cited reports have been submitted monthly by the States the past several years in electronic format (with the exception of the ETA 8403). The Department is working with the U.S. Treasury to convert the ETA 8403 to an electronic format by December 31, 2003.

Since the reports are essential to the Department's financial statements and program oversight responsibilities, and the Department seeks Office of Management and Budget (OMB) approval for a three year extension to January 1, 2006.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of the information on those who are to respond, including through the use of appropriate automated, electronic, mechanical, or other technological collection techniques or other forms of information technology, e.g., permitting electronic submissions of responses.

III. Current Actions

This action is requested to provide information the Department needs to exercise oversight and to assure the security, solvency, and integrity of the unemployment fund. Furthermore, the Department needs the information to prepare the annual consolidated financial statements and UI statistical reports.

This information is not available from any other source. Because the reporting system has been operational on-line for several years, there is negligible burden on the states. The Department intends to expand the ETA 2112 by four lines to report deposits and withdrawals for current Federal emergency programs, e.g., the Temporary Extended Unemployment Compensation program, and for future programs. This will disaggregate information currently reported on one line and explained in the “Comments” section of the report. It will not increase the amount of information collected.

Type of review: Extension.

Agency: Labor, employment and training administration.

Title: ETA Summaries UI Trust Fund Activities.

OMB Number: 1205-0154.

Agency Number: 1205.

Affected Public: 50 states, Washington, DC, Puerto Rico, and the Virgin Islands.

Total respondents: 53 states.

Frequency: ETA 8403: As needed. This report is submitted only when there is activity requiring update of the state's Reed Act account. ETA 2112, 8401, 8405, 8413, 8414: Monthly.

Total Responses: 53 states x 12 months = 636 responses.

Average time Per Response: ETA 2112, 8401, 8405, 8413, 8414: 636 × 2.5 hours = 1,590 hours. ETA 8403: 53 states × 6 annual responses × 30 minutes per response = 159 reporting hours.

Estimated Total Burden Hours: 1,749 hours.

Estimated Total Burden Cost: $25 × 1,749 = $43,725.

Comments in response to this notice will be summarized and/or included in the request to the OMB for approval; they will also become part of the public record.

Dated: September 5, 2002.
Grace A. Kilbane,
Administrator, Office of Workforce Security.

[FR Doc. 02-23205 Filed 9-11-02; 8:45 am]

BILLING CODE 4510-30-P